DEPARTMENT OF AGRICULTURE

USDA Equity Commission; Meeting

AGENCY: USDA.

ACTION: Notice of public and virtual meeting.

SUMMARY: Notice is hereby given, pursuant to the provisions of the rules and regulations of the United States Department of Agriculture (USDA) and the Federal Advisory Committee Act (FACA), that a public meeting of the USDA Equity Commission (EC or Commission), Subcommittee for Agriculture and the Rural Community Economic Development (RCED) Subcommittee will convene to continue its work reviewing USDA programs, services, and policies for the purpose of making recommendations for how the Department can improve access and advance equity. The Commission and Subcommittees are authorized under section 22007c of the Inflation Reduction Act of 2022, Public Law 117-169, and operates in compliance with the Federal Advisory Committee Act, as amended.

DATES: The EC meeting will be held Tuesday, October 24 through Thursday, October 26 from 12:00 p.m. EST to 7:00 p.m. EST each day.

ADDRESSES: The public can participate via a zoom meeting link. Access information will be provided to registered individuals via email. Detailed information can be found at: https://www.usda.gov/equity-commission.

FOR FURTHER INFORMATION CONTACT: Cecilia Hernandez, Designated Federal Officer, USDA Equity Commission, Office of the Deputy Secretary, 1400 Independence Avenue SW, Room 6006-S, Washington, DC 20250-0235; Phone:(202) 913-5907; Email: Equitycommission@usda.gov.

Individuals who use telecommunication devices for the deaf (TDD) may call the FCC Telecommunications Relay Service (TRS) at 7-1-1 between 8:00 a.m. and 8:00 p.m., Eastern Standard Time, Monday through Friday.

SUPPLEMENTARY INFORMATION: On January 20, 2021, President Biden signed an Executive Order On Advancing Racial Equity and Support for Underserved Communities Through the Federal Government and committed to creating the USDA Equity Commission as part of his rural agenda and commitment to closing the racial wealth gap and addressing longstanding inequities in agriculture. Section 22007c of the Inflation Reduction Act of 2022, Public Law 117-169, provides sufficient funds to ensure the Commission is well staffed and positioned to deliver on its charge.

The USDA Equity Commission will advise the Secretary of Agriculture and provide USDA with an analysis of how its programs, policies, systems, structures, and practices contribute to barriers to inclusion or access, systemic discrimination, or exacerbate or perpetuate racial, economic, health and social disparities and recommendations for action. The Agriculture Subcommittee reports to the Equity Commission and provides recommendations on issues of concern related to agriculture. The Rural Community Economic Development Subcommittee (RCED) also reports to the Equity Commission and is focused on issues related to rural community prosperity. The Equity Commission delivered an interim report and provided actionable recommendations in February 2023. A final report will be completed by winter of 2024.

Meeting Agenda: The agenda items may include, but are not limited to, welcome and introductions; administrative matters; introduction and presentation of the Agriculture Subcommittee and Rural Community Economic Development Subcommittee recommendations; and deliberations and voting of recommendations to be included in the final report. Please check the USDA Equity Commission website (https://www.usda.gov/equity-commission) for an agenda 24-48 hours prior to October 24.

Register for the Meeting: The public is asked to pre-register for the meeting by visiting https://www.usda.gov/equity-commission. Your pre-registration must state: your name; organization or interest represented; if you are planning to give oral comments; and if you require special accommodations. USDA will also accept day-of registrations.

Oral Comments: The Commission is providing the public an opportunity to provide oral comments and will accommodate as many individuals and organizations as time permits. Persons or organizations wishing to make oral comments must pre-register by 11:59 p.m. ET, October 9, 2023, and may only register for one speaking slot. Participants who wish to make oral comments must also be available to attend a tech-check before the meeting. Instructions for registering and participating in the meeting can be found on https://www.usda.gov/equity-commission.

Written Comments: Written public comments for consideration at the meeting will be accepted on or before 11:59 p.m. ET, October 9. Comments submitted after this date will be provided to the Commission, but the Commission may not have adequate time to consider those comments prior to the meeting. The USDA Equity Commission strongly prefers comments be submitted electronically. However, written comments may also be submitted (i.e., postmarked) via mail to the person listed in the FOR FURTHER INFORMATION CONTACT section by or before the deadline. Written comments will be accepted up to 15 days after the meeting for inclusion in the meeting minutes.

Availability of Materials for the Meeting: All written public comments received by October 9, 2023, will be compiled into a file and available for member review and be included in the meeting minutes. Duplicate comments from multiple individuals will appear as one comment, with a notation that multiple copies of the comment were received. Please visit https://www.usda.gov/equity-commissiontoviewtheagendaand/or minutes from this meeting.

Meeting Accommodations: USDA is committed to making its electronic and information technologies accessible to individuals with disabilities by meeting or exceeding the requirements of Section 508 of the Rehabilitation Act (29 U.S.C. 794d), as amended. If you need reasonable accommodations, please make requests in advance for reasonable accommodations through the meeting registration link on https://www.usda.gov/equity-commission. Determinations for reasonable accommodations will be made on a case-by-case basis.

In accordance with Federal civil rights law and U.S. Department of Agriculture (USDA) civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and person with disabilities. USDA is an equal opportunity provider, employer, and lender.

Dated: September 28, 2023.
Cikena Reid,
USDA Committee Management Officer.

[FR Doc. 2023-21918 Filed 10-3-23; 8:45 am]

BILLING CODE 3410-01-P